DEPARTMENT OF STATE

[Public Notice 5092]

Procedures for Issuance of a Presidential Permit Where There Has Been a Transfer of the Underlying Facility, Bridge or Border Crossing for Land Transportation

AGENCY: Department of State, Office of the Under Secretary for Economic and Agricultural Affairs.

ACTION: Notice.

FOR FURTHER INFORMATION CONTACT: Office of International Energy and Commodity Policy, Bureau of Economic and Business Affairs (EB/ESC/IEC), Department of State, 2201 C Street, NW., Suite 3535, Washington, DC 20520, Attn: Matthew McManus, telephone: 202-647-2887, e-mail: McManusMT@state.gov.

The Department of State's policies and procedures for issuance of a Presidential Permit in connection with cross-border facilities (such as pipelines, bridges, border crossings for land transportation, etc.) involve the exercise of a foreign affairs function of the United States. The following procedures apply in a given case only to the extent that they are consistent with a prior Congressional authorization (if any). In the event of a conflict, the prior Congressional authorization prevails. The Department of State also reserves the right to deviate from these procedures in particular cases.

1. When the Department of State is notified by the holder of a Presidential permit of the transfer of the relevant facility, bridge or border crossing for land transportation to another party, the relevant Department of State office will contact the transferee entity and seek a commitment from the transferee, if not already provided, that it will abide by the relevant terms and conditions of the previously-issued permit.

2. The relevant office will further request that the transferee submit an application for a new permit, containing, inter alia, information explaining the nature of the entity, its ownership, its place of incorporation or organization, information concerning its acquisition of relevant facility, bridge or border crossing from the prior permit holder and any other relevant information concerning its operation of the facility, bridge or border crossing.

3. Once the relevant office in the Department of State obtains the commitment described above and a completed permit application, it will process the application in accordance with the procedures set forth in E.O. 11423, as amended, or E.O. 13337, as applicable. However, in the event that the transferee commits to abiding by the relevant terms and conditions of the previously-issued permit and further indicates that the operations of the relevant facility, bridge or border crossing will remain essentially unchanged from that previously permitted, the Department of State, pursuant to 22 CFR 161.7(b)(3), does not intend to conduct an environmental review of the application under its regulations implementing the National Environmental Policy Act, 22 CFR part 161, unless information is brought to its attention in connection with the application process that the transfer potentially would have a significant impact on the quality of the human environment. In the latter circumstance, the Department of State will evaluate what further steps it will take with respect to environmental review of the application in light of the available information and its legal responsibilities under NEPA.

Dated: May 24, 2005.
E. Anthony Wayne,
Assistant Secretary, Bureau of Economic and Business Affairs, Department of State.

[FR Doc. 05-10736 Filed 5-27-05; 8:45 am]

BILLING CODE 4710-07-P